DEPARTMENT OF COMMERCE

National Oceanic and Atmospheric Administration

[RTID 0648-XE449]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a one day in-person meeting of its Reef Fish Advisory Panel (AP).

DATES: The meeting will take place Tuesday, December 3, 2024, from 8:30 a.m. to 5 p.m., EST.

ADDRESSES: The in-person meeting will take place at the Gulf Council office. Registration information will be available on the Council's website by visiting www.gulfcouncil.org and clicking on the Scientific and Statistical Committee (SSC) meeting on the calendar.

Council address: Gulf of Mexico Fishery Management Council, 4107 W Spruce Street, Suite 200, Tampa, FL 33607; telephone: (813) 348-1630.

FOR FURTHER INFORMATION CONTACT: Mr. Ryan Rindone, Lead Fishery Biologist, Gulf of Mexico Fishery Management Council; ryan.rindone@gulfcouncil.org; telephone: (813) 348-1630.

SUPPLEMENTARY INFORMATION:

Tuesday, December 3, 2024; 8:30 a.m.-5 p.m., EST

The meeting will begin with Introductions of Members and Adoption of Agenda, Election of New Chair and Vice Chair, Approval of Minutes and Meeting Summary from the October 2023 meeting, Scope of Work and Reef Fish and Individual Fishing Quota (IFQ) Program Landings.

The AP will review and discuss Amendment 58A: Shallow-water Grouper Management Measures, and Amendment 58B: Deep-water Grouper Management Measures. The AP will then review the progress of Southeast Data, Assessment, and Review (SEDAR) 88: Gulf of Mexico Red Grouper Stock Assessment; including presentations, background materials, Fishermen Feedback, and SSC Recommendations.

The AP will then review Framework Actions for Removal of the 20-fathom Shallow-water Grouper Closures, Modification of the Federal For-Hire Red Snapper Fishing Season and Modifications of Gulf Lane Snapper Management Measures, including presentations and AP Recommendations.

Lastly, the AP will receive Public Comment and discuss any Other Business items.

—Meeting Adjourns

The meeting will also be broadcast via webinar. You may register for the webinar by visiting www.gulfcouncil.org and clicking on the Advisory Panel meeting on the calendar. The Agenda is subject to change, and the latest version along with other meeting materials will be posted on www.gulfcouncil.org as they become available.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take-action to address the emergency.

Special Accommodations

The meeting is physically accessible to people with disabilities. Requests for sign language interpretation or other auxiliary aid should be directed to Kathy Pereira, (813) 348-1630, at least 5 days prior to the meeting date.

Authority: 16 U.S.C. 1801 et seq.

Dated: November 8, 2024.
Alyssa Weigers,
Acting Deputy Director, Office of Sustainable Fisheries, National Marine Fisheries Service.

[FR Doc. 2024-26498 Filed 11-13-24; 8:45 am]

BILLING CODE 3510-22-P